FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than June 25, 2010.

A. Federal Reserve Bank of Richmond (A. Linwood Gill, III, Vice President) 701 East Byrd Street, Richmond, Virginia 23261-4528:

1. ACMO-HR, L.L.C., New York, New York; Anchorage Capital Master Offshore, Ltd.; ACPO Master, L.P.; Anchorage Capital Partners Offshore, Ltd.; and ACPO Master, Ltd., all of Grand Cayman, Cayman Islands; Anchorage Capital Partners, L.P.; Anchorage Advisors, L.L.C.; Anchorage Capital Group, L.L.C.; Anchorage Capital Management, L.L.C.; and Anchorage Advisors Management, L.L.C., all of Wilmington, Delaware; Kevin Ulrich and Anthony Davis, both of New York, New York, to acquire voting shares of Hampton Roads Bankshares, Inc., Norfolk, Virginia, and thereby indirectly acquire voting shares of Shore Bank, Onley, Virginia, and Bank of Hampton Roads, Norfolk, Virginia.

B. Federal Reserve Bank of Atlanta (Clifford Stanford, Vice President) 1000 Peachtree Street, N.E., Atlanta, Georgia 30309:

1. AG Advisors Private Equity Participation Partners, L.P.; AG Funds GP, L.P.; AG Funds, L.P.; AG Private Equity IV LLC; AG Private Equity Partners IV(R) L.P.; AG Private Equity Partners IV, L.P.; AG Super LLC; AG Super Fund, L.P.; JM Funds LLC; John M. Angelo, and Michael L. Gordon, all of New York, New York, to acquire voting shares of Hamilton State Bancshares, Inc., and thereby indirectly acquire voting shares of Hamilton State Bank, both of Hoschton, Georgia.

2. Tailwind Capital Partners (AI), L.P., a Delaware limited partnership; Tailwind Capital Partners (PP), L.P., a Delaware limited partnership; Tailwind Capital Partners, L.P., a Delaware limited partnership; Tailwind Capital Partners (ERISA), L.P., a Delaware limited partnership; Tailwind HSB Holdings, LLC, a Delaware limited liability company; Tailwind Capital Partners (Cayman), L.P., a Cayman Islands limited partnership; Tailwind Holdings (Cayman), L.P., a Cayman Islands limited partnership; Tailwind Capital Partners (GP) LP, a Delaware limited partnership; Tailwind Management LP, a Delaware limited partnership; Tailwind Capital Group LLC, a Delaware limited liability company; James Stevenson Hoch; Douglas Mark Karp; Frank Vincent Sica; and Lawrence Brian Sorrel, c/o Tailwind Capital; New York, New York, to acquire voting shares of Hamilton State Bancshares, Inc., and thereby indirectly acquire voting shares of Hamilton State Bank, both of Hoschton, Georgia.

C. Federal Reserve Bank of Dallas (E. Ann Worthy, Vice President) 2200 North Pearl Street, Dallas, Texas 75201-2272:

1. Richard Earl Williams, Jr., Cameron, Texas, and Debora Evans, Belton, Texas, individually; to retain voting shares of Cameron Financial Corporation, and thereby indirectly retain voting shares of Classic Bank, N.A., both of Cameron, Texas.

Board of Governors of the Federal Reserve System, June 7, 2010.
Robert deV. Frierson,
Deputy Secretary of the Board.

[FR Doc. 2010-13997 Filed 6-10-10; 8:45 am]

BILLING CODE 6210-01-S